DEPARTMENT OF THE INTERIOR

Geological Survey

Request for Public Comments on a Proposed New Information Collection To Be Submitted to OMB for Review Under the Paperwork Reduction Act

A request for a new information collection described below will be submitted to the Office of Management and Budget (OMB) for approval under the provisions of the Paperwork Reduction Act (44 U.S.C. Chapter 35). Copies of the proposed collection may be obtained by contacting the USGS Clearance Officer at the phone number listed below. Comments on the proposal should be made within 60 days to the Bureau Clearance Officer, U.S. Geological Survey, 807 National Center, Reston, VA 20192.

As required by OMB regulations at 5 CFR 1320.8(d)(1), the USGS solicits specific public comments as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: National Water Information System Survey.

OMB Approval No.: New collection.

SUMMARY: The collection of information referred herein applies to a World-Wide Web site questionnaire to be placed on the U.S. Geological Survey NWISWeb Web site (http://waterdata.usgs.gov/nwis). The optional survey will assist in identifying the types of customers who use the NWISWeb system, their needs and their satisfaction levels. In particular it will request detailed feedback from users who use the NWISWeb to electronically collect the system's data, so that their needs can be incorporated into future changes to NWISWeb.

Estimated Completion Time: 10 minutes.

Estimated Annual Number of Respondents: 10,000.

Frequency: No frequency. Filling out the survey is wholly voluntary but would normally be done only once per user.

Estimated Annual Burden Hours: 1,667 hours.

Affected Public: The general public.

FOR FURTHER INFORMATION CONTACT: To obtain copies of the survey, contact the Bureau clearance officer, U.S. Geological Survey, 807 National Center, 12201 Sunrise Valley Drive, Reston, Virginia, 20192, telephone (703) 648-7313.

Dated: July 21, 2005.
Robert M. Hirsch,
Associate Director for Water.

[FR Doc. 05-14784 Filed 7-26-05; 8:45 am]

BILLING CODE 4310-Y7-M